DEPARTMENT OF HEALTH AND HUMAN SERVICES

Administration for Children and Families

Agency Recordkeeping/Reporting Requirement Under Emergency Review by the Office of Management and Budget (OMB); Retraction

ACTION: Notice of retraction.

SUMMARY: The Administration for Children and Families published a notice in the Federal Register on June 6, 2006, requesting comments on reporting requirements contained in the Interim Final Rule for the Reauthorization of the Temporary Assistance for Needy Families Program. As the subject rule has not yet been published, the Administration for Children and Families is retracting the notice.

FOR FURTHER INFORMATION CONTACT: Robert Sargis, Reports Clearance Officer, 202-690-7275, rsargis@acf.hhs.gov.

Dated: June 12, 2006.
Robert Sargis,
Reports Clearance Officer.

[FR Doc. 06-5436 Filed 6-14-06; 8:45 am]

BILLING CODE 4184-01-M